DEPARTMENT OF TRANSPORTATION

Pipeline and Hazardous Materials Safety Administration

49 CFR Parts 107, 171, 172, 173, 178, and 180

[Docket No. PHMSA-2020-0102 (HM-219D); Notice No. 2023-06]

RIN 2137-AF49

Hazardous Materials: Adoption of Miscellaneous Petitions and Updating Regulatory Requirements

AGENCY: Pipeline and Hazardous Materials Safety Administration (PHMSA), Department of Transportation (DOT).

ACTION: Proposed rule; extension of comment period.

SUMMARY: On March 3, 2023, PHMSA published a notice of proposed rulemaking (NPRM), entitled “Hazardous Materials: Adoption of Miscellaneous Petitions and Updating Regulatory Requirements (HM-219D),” proposing changes to update, clarify, improve the safety of, or streamline various regulatory requirements. In response to a request for an extension of the comment period submitted by Worthington Industries, PHMSA is extending the comment period for the HM-219D NPRM for an additional 45 days. Comments to the HM-219D NPRM will now be due by June 16, 2023.

DATES: Comments should be received on or before June 16, 2023. To the extent possible, PHMSA will consider late-filed comments.

ADDRESSES: Comments should reference Docket No. PHMSA-2020-0102 (HM-219D) and may be submitted in the following ways:

• Federal eRulemaking Portal: https://www.regulations.gov. Follow the instructions for submitting comments.

• Fax: 1-202-493-2251.

• Mail: Dockets Management System, U.S. Department of Transportation, Dockets Operations, M-30, Ground Floor, Room W12-140, 1200 New Jersey Avenue SE, Washington, DC 20590-0001.

• Hand Delivery: To the Docket Management System: Room W12-140 on the ground floor of the West Building, 1200 New Jersey Avenue SE, Washington, DC 20590, between 9 a.m. and 5 p.m., Monday through Friday, except federal holidays.

Instructions: All submissions must include the Agency name and Docket Number (PHMSA-2020-0102) for this notice at the beginning of the comment. To avoid duplication, please use only one of these four methods. All comments received will be posted without change to the Federal Docket Management System (FDMS) and will include any personal information you provide.

Docket: For access to the dockets to read associated documents or comments received, go to https://www.regulations.gov or DOT's Docket Operations Office (see ADDRESSES).

Privacy Act: In accordance with 5 U.S.C. 553(c), DOT solicits comments from the public to better inform its process. DOT posts these comments without change, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA; 5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN” for “proprietary information.” Submissions containing CBI should be sent to Steven Andrews, U.S. Department of Transportation, 1200 New Jersey Avenue SE, Washington, DC 20590-0001. Any commentary that PHMSA receives that is not specifically designated as CBI will be placed in the public docket for this rulemaking.

FOR FURTHER INFORMATION CONTACT: Steven Andrews, Standards and Rulemaking Division, 202-366-8553, Pipeline and Hazardous Materials Safety Administration, U.S. Department of Transportation, 1200 New Jersey Avenue SE, Washington, DC 20590-0001.

SUPPLEMENTARY INFORMATION:

I. Background

PHMSA published the HM-219D NPRM ¹ on March 3, 2023, in response to 18 petitions for rulemaking submitted by the regulated community between May 2018 and October 2020 that requested PHMSA address a variety of provisions, including but not limited to those pertaining to packaging, hazard communication, and the incorporation by reference of certain documents. These proposed revisions maintain or enhance the existing high level of safety under the Hazardous Materials Regulations while providing clarity and appropriate regulatory flexibility in the transport of hazardous materials. On April 6, 2023, PHMSA received a comment to the HM-219D NPRM docket submitted by Worthington Industries requesting that PHMSA rescind certain elements of the HM-219D NPRM or (in the alternative) extend the comment period for responding to the NPRM.

¹ See Hazardous Materials: Adoption of Miscellaneous Petitions and Updating Regulatory Requirements NPRM [88 FR 13624] at https://www.federalregister.gov/documents/2023/03/03/2023-03366/hazardous-materials-adoption-of-miscellaneous-petitions-and-updating-regulatory-requirements.

II. Comment Period Extension

PHMSA initially provided a 60-day comment period for the HM-219D NPRM, which closes on May 2, 2023. In response to a request to extend the comment period from Worthington Industries, PHMSA is extending the comment period for an additional 45 days. The comment period will now close on June 16, 2023. This extension provides the public with an additional 45 days and should provide adequate opportunity for the public to submit comments; however, PHMSA may at its discretion extend the comment period further if necessary. To the extent possible, PHMSA will also consider late-filed comments.

Issued in Washington, DC, on April 20, 2023, under authority delegated in 49 CFR part 1.97.
William S. Schoonover,
Associate Administrator of Hazardous Materials Safety, Pipeline and Hazardous Materials Safety Administration.

[FR Doc. 2023-08724 Filed 4-25-23; 8:45 am]

BILLING CODE 4910-60-P